DEPARTMENT OF THE INTERIOR

Bureau of Reclamation

Agency Information Collection; Activities Under OMB Review; Comment Request

AGENCY: Bureau of Reclamation, Interior.

ACTION: Notice of renewal of a currently approved collection (OMB No. 1006-0003).

SUMMARY: In accordance with the Paperwork Reduction Act of 1995, the Bureau of Reclamation (Reclamation, we) has forwarded the following Information Collection Request (ICR) to the Office of Management and Budget (OMB) for review and approval: Use Authorization Application (Form 7-2540), OMB Control Number: 1006-0003. Title 43 CFR part 429 requires that applicants for certain uses of Reclamation land, facilities, and waterbodies apply using Form 7-2540. We request your comments on specific aspects of the revised Use Authorization Application Form.

DATES: OMB has up to 60 days to approve or disapprove this information collection, but may respond after 30 days; therefore, public comments must be received on or before March 11, 2009 to assure maximum consideration.

ADDRESSES: You may send written comments to the Desk Officer for the Department of the Interior at the Office of Management and Budget, Office of Information and Regulatory Affairs, via facsimile to (202) 395-6566 or e-mail to OIRA_DOCKET@omb.eop.gov. A copy of your comments should also be directed to the Bureau of Reclamation, Attention: 84-53000, PO Box 25007, Denver, CO 80225.

FOR FURTHER INFORMATION CONTACT: Greek Taylor at: (303) 445-2895.

SUPPLEMENTARY INFORMATION: Title: Bureau of Reclamation Use Authorization Application, 43 CFR part 429.

Abstract: Reclamation is responsible for approximately 6.5 million acres of land which directly support Reclamation's Federal water projects in the 17 western states. Individuals or entities wanting to use Reclamation's lands, facilities, or waterbodies must submit an application to gain permission for such uses. Examples of such uses are:

—Agricultural uses such as grazing and farming;

—Commercial or organized recreation and sporting activities;

—Other commercial activities such as “guiding and outfitting” and “filming and photography;” and

—Resource exploration and extraction, including sand and gravel removal and timber harvesting.

Reclamation reviews applications to determine whether granting individual use authorizations is compatible with Reclamation's present or future uses of the lands, facilities, or waterbodies. When we find a proposed use compatible, we advise the applicant of the estimated administrative costs and estimated application processing time. In addition to the administrative costs, we require the applicant to pay a use fee for the use authorization based on a valuation or competitive bidding. If the application is for construction of a bridge, building, or other significant construction project, Reclamation may require that all plans and specifications be signed and sealed by a licensed professional engineer.

We changed the form and its instructions to comply with revisions to 43 CFR part 429. The name of the form is now “Bureau of Reclamation Use Authorization Application” and “right-of-use” is replaced with “use authorization” in the form and instructions. We expanded the examples in the instructions of proposed uses for which you must seek permission. The instructions reflect an application fee of $100. However, some applications may incur a higher cost due to additional required analyses such as the need to perform a valuation or to ensure compliance with the National Environmental Policy Act. The average cost for preparing an application is estimated to be $200. We made other changes to the form and the instructions to improve the readability and information-gathering. For instance, the form now requests day and evening phone numbers, instead of work and home numbers.

Frequency: Each time a use authorization is requested.

Respondents: Individuals, corporations, companies, and State and local entities who want to use Reclamation lands, facilities, or waterbodies.

Estimated Annual Total Number of Respondents: 175.

Estimated Number of Responses per Respondent: 1.

Estimated Total Number of Annual Responses: 175.

Estimated Total Annual Burden on Respondents: 350 hours.

Estimated Completion Time per Respondent: 2 hours.

Comments

We invite your comments on:

(a) Whether the proposed collection of information is necessary for the proper performance of our functions, including whether the information will have practical use;

(b) The accuracy of our burden estimate for the proposed collection of information;

(c) Ways to enhance the quality, usefulness, and clarity of the information to be collected; and

(d) Ways to minimize the burden of the information collection on respondents, including the use of automated collection techniques or other forms of information technology.

An agency may not conduct or sponsor, and a person is not required to respond to a collection of information unless it displays a currently valid OMB control number. Reclamation will display a valid OMB control number on the Use Authorization Application Form 7-2540. A Federal Register notice with a 60-day comment period soliciting comments on this collection of information was published in the Federal Register (73 FR 56865, Sep. 30, 2008). No public comments were received.

OMB has up to 60 days to approve or disapprove this information collection, but may respond after 30 days; therefore, public comment should be submitted to OMB within 30 days in order to assure maximum consideration.

Before including your address, telephone number, e-mail address, or other personal identifying information in your comment, you should be aware that your entire comment (including your personal identifying information) may be made publicly available at any time. While you can ask us in your comment to withhold your personal identifying information from public review, we cannot guarantee that we will be able to do so.

Roseann Gonzales,
Director, Policy and Program Services, Denver Office.

[FR Doc. E9-2639 Filed 2-6-09; 8:45 am]

BILLING CODE 4310-MN-P